DEPARTMENT OF STATE

[Delegation of Authority: 245-2]

Delegation From the Secretary to the Deputy Secretary of Authorities of the Secretary of State

By virtue of the authority vested in the Secretary of State by the laws of the United States, including 22 U.S.C. 2651a, I hereby delegate to the Deputy Secretary, to the extent authorized by law, all authorities and functions vested in the Secretary of State or the head of agency by any act, order, determination, delegation of authority, regulation, or executive order, now or hereafter issued.

This Delegation includes all authorities and functions that have been or may be delegated or re-delegated to other Department officials but does not repeal delegations to such officials.

Notwithstanding this delegation of authority, the Secretary of State may exercise any function or authority delegated by this delegation.

This Delegation of Authority supersedes Delegation of Authority 245-1, dated February 13, 2009.

This memorandum shall be published in the Federal Register.

Dated: July 31, 2017.
Rex W. Tillerson,
Secretary of State.

[FR Doc. 2017-17134 Filed 8-11-17; 8:45 am]

BILLING CODE 4710-08-P